DEPARTMENT OF THE INTERIOR

National Park Service

[NPS-WASO-NAGPRA-NPS0034565; PPWOCRADN0-PCU00RP14.R50000]

Notice of Inventory Completion: University of Tennessee, Department of Anthropology, Knoxville, TN

AGENCY: National Park Service, Interior.

ACTION: Notice.

SUMMARY: In accordance with the Native American Graves Protection and Repatriation Act (NAGPRA), the University of Tennessee, Department of Anthropology (UTK), has completed an inventory of human remains and associated funerary objects and has determined that there is a cultural affiliation between the human remains and associated funerary objects and Indian Tribes or Native Hawaiian organizations in this notice. The human remains and associated funerary objects were removed from Burleigh and Stutsman Counties, ND, and Buffalo, Davison, Gregory, Hanson, Hughes, Sully, and Walworth Counties, SD.

DATES: Repatriation of the human remains and associated funerary objects in this notice may occur on or after October 20, 2022.

ADDRESSES: Dr. Robert Hinde, University of Tennessee, Office of the Provost, 527 Andy Holt Tower, Knoxville, TN 37996-0152, telephone (865) 974-2445, email rhinde@utk.edu and vpaa@utk.edu.

SUPPLEMENTARY INFORMATION: This notice is published as part of the National Park Service's administrative responsibilities under NAGPRA. The determinations in this notice are the sole responsibility of UTK. The National Park Service is not responsible for the determinations in this notice. Additional information on the determinations in this notice, including the results of consultation, can be found in the inventory or related records held by UTK.

Description

Around May of 1976, human remains representing, at minimum, three individuals were removed from Burleigh County, ND, during right-of-way construction by Nick Franke of the North Dakota Historical Society (NDHS). These human remains belong to a group of nine burials excavated from the Double Ditch site, 32BL8, an earth lodge village dating to the period 1490-1785 C.E. In 1977, the human remains from all nine burials were transferred to Richard Jantz at UTK. Although an undated file at UTK records the return of the human remains to NDHS, for whatever reason, the human remains of the three individuals listed in this notice were never returned. No known individuals were identified. The one associated funerary object is one lot of burial soil.

Around August of 1952, human remains representing, at minimum, one individual were removed from 32SN30, the Joos site, in Stutsman County, ND, by members of the Missouri River Basin Project, under the direction of R.P. Wheeler. At an unknown date these human remains were transferred to UTK. No known individual was identified. No associated funerary objects are present.

Between 1950 and 1952, human remains representing, at minimum, eight individuals were removed from 39BF3, the Talking Crow site, in Buffalo County, SD, by the University of Kansas (KU) and the National Park Service (NPS) as part of the Inter-Agency Archeological Salvage Program, under the direction of Carlyle Smith. This site is a multi-component earthlodge village, with levels dating to the period 600-1865 C.E. At the close of the field seasons, the human remains, funerary objects, and cultural materials were transferred to KU. William Bass, who taught at KU from 1960 to 1971, likely brought the human remains and associated funerary objects listed in this notice to the UTK Department of Anthropology in 1971, when he began working there. No known individuals were identified. The 11 associated funerary objects are four lots of animal bone, one lot of seed pods, two lots of soil samples, one lot of animal hide, one lot of lithics, one lot of ceramics, and one lot of soil.

Between 1938 and 1954, human remains representing, at minimum, three individuals were removed from the Mitchell Village and Mounds site, 39DV2, in Davison County, SD, by E.E. Meleen and Martin Thome. This site dates to the period 900 CE-1400 C.E. Subsequently, these human remains were transferred to the South Dakota State Archaeological Research Center (SARC). Later, between 1987 and 1988, these human remains were transferred to UTK. No known individuals were identified. No associated funerary objects are present.

At an unknown date, human remains representing, at minimum, one individual were removed from 39GR5, a site located near Fort Randall in Gregory County, SD, by an unknown person. Surface-collected ceramics have identified a Plains Woodland occupation of the site (500 B.C.E.-900 C.E.). At an unknown date, these human remains were transferred to UTK. No known individual was identified. The one associated funerary object is one lot of ceramics.

In 1944, human remains representing, at minimum, three individuals were removed from 39HS1, the Bloom Village site in Hanson County, SD, by F.C. Kratz. This site is a fortified earthlodge village and mound dating to the period 885-1153 C.E. The human remains were housed at SARC until their transfer to the UTK Department of Anthropology in 1987. Although UTK subsequently returned most of the human remains to SARC, some skeletal elements remained at UTK. No known individuals were identified. No associated funerary objects are present.

At an unknown date, human remains representing, at minimum, 15 individuals were removed from 39HU5, the Mush Creek site in Hughes County, SD. This site is an unfortified village that was occupied during the LeBeau phase of the Post-Contact Coalescent Variant (1650-1886 C.E.). Based on information on file at UTK, before their transfer to SARC, these human remains were part of the W.H. Over Museum collections (accession 10.71.5). In 1987, SARC transferred the human remains to UTK. Although UTK subsequently returned most of the human remains to SARC, some skeletal elements remained at UTK. No known individuals were identified. No associated funerary objects are present.

At an unknown date, human remains representing, at minimum, two individuals were removed from 39HU26, the Spotted Bear site, in Hughes County, SD, by an unknown person. This site is an earthlodge village established between 1650 and 1700 C.E. These human remains were stored at SARC until 1987, when they were transferred to UTK. Although UTK subsequently returned most of the human remains to SARC, some skeletal elements remained at UTK. No known individuals were identified. No associated funerary objects are present.

At an unknown date, human remains representing, at minimum, one individual, were removed from Fairbanks Village site, 39SL2, Sully County, SD, by an unknown person. This site is an Arikara Village that was occupied between 1550 and 1675 C.E. At an unknown date, these human remains were transferred to UTK. No known individual was identified. No associated funerary objects are present.

Between 1954 and 1956, as well as at an unknown date, human remains representing, at minimum, 36 individuals were removed from the Swan Creek site, 39WW7, in Walworth County, SD. Swan Creek has two separate components—a fortified village and a cemetery. The site was inhabited around 1500-1886 C.E. A note accompanying the human remains of two of the individuals indicates they were discovered by Dennis Bessinger of Pierre, SD. The human remains of a third individual were transferred to William Bass by Richard Weeks, with removal and transfer dates unknown. The human remains of the other 33 individuals were removed from the site between 1954-1956, by Wesley R. Hurt, Jr. The human remains were housed at the W.H. Over Museum in South Dakota before being transferred to SARC. Sometime in the 1980s, SARC transferred them to the UTK Department of Anthropology. UTK subsequently returned most of the human remains to SARC, and in 1986, they reportedly were reburied at site 39ST15, but some skeletal elements remained at UTK. No known individuals were identified. The three associated funerary objects are one lot of ceramics and two lots of faunal remains.

At an unknown date, human remains representing, at minimum, one individual, were removed from site 39WW8 in Walworth County, SD, by an unknown person. This site dates to the period 1500-1675 C.E. These human remains were among the human remains from several burials at the site that were excavated during the River Basin Survey and sent (probably in the 1960s) by the State Historical Society of North Dakota to William Bass at KU. In 1971, when Bass left KU to begin a position in the UTK Department of Anthropology, he likely brought the human remains of the individual listed in this notice with him. No known individual was identified. No associated funerary objects are present.

At an unknown date, human remains representing, at minimum, two individuals were removed from site 39WW202, the Walth Bay site, in Walworth County, SD, by an unknown person. Based on archeological evidence, the site dates to the period 1500-1675 C.E. (radiocarbon dating with a 2-sigma probability range yields a date 1492 and 1653 C.E.). These human remains were housed at SARC before being transferred to UTK in 1987. Although UTK subsequently returned most of the human remains to SARC, some skeletal elements remained at UTK. No known individuals were identified. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, and oral traditional.

Determinations

Pursuant to NAGPRA and its implementing regulations, and after consultation with the appropriate Indian Tribes and Native Hawaiian organizations, UTK has determined that:

• The human remains described in this notice represent the physical remains of 76 individuals of Native American ancestry.

• The 16 objects described in this notice are reasonably believed to have been placed with or near individual human remains at the time of death or later as part of the death rite or ceremony.

• There is a relationship of shared group identity that can be reasonably traced between the human remains and associated funerary objects described in this notice and the Three Affiliated Tribes of the Fort Berthold Reservation, North Dakota.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 20, 2022. If competing requests for repatriation are received, UTK must determine the most appropriate requestor prior to repatriation. Requests for joint repatriation of the human remains and associated funerary objects are considered a single request and not competing requests. UTK is responsible for sending a copy of this notice to the Indian Tribes and Native Hawaiian organizations identified in this notice.

Authority: Native American Graves Protection and Repatriation Act, 25 U.S.C. 3003, and the implementing regulations, 43 CFR 10.9, 10.10, and 10.14.

Dated: September 14, 2022.
Melanie O'Brien,
Manager, National NAGPRA Program.

[FR Doc. 2022-20299 Filed 9-19-22; 8:45 am]

BILLING CODE 4312-52-P